DEPARTMENT OF AGRICULTURE

Animal and Plant Health Inspection Service

[Docket No. APHIS-2023-0035]

General Conference Committee of the National Poultry Improvement Plan

AGENCY: Animal and Plant Health Inspection Service, USDA.

ACTION: Notice of public meeting.

SUMMARY: We are giving notice that the General Conference Committee of the National Poultry Improvement Plan will be holding a public meeting.

DATES: The General Conference Committee public meeting will be held on Thursday, June 29, 2023, from 7:30 a.m. to 12:30 p.m.

ADDRESSES: The meeting will be held at the Sonesta Downtown Columbus Hotel, 33 East Nationwide Blvd., Columbus, OH 43215.

FOR FURTHER INFORMATION CONTACT: Dr. Elena Behnke, Senior Coordinator, National Poultry Improvement Plan, VS, APHIS, USDA, 1506 Klondike Road, Suite 101, Conyers, GA 30094; (770) 922-3496; email: Elena.Behnke@usda.gov.

SUPPLEMENTARY INFORMATION: The General Conference Committee (the Committee) of the National Poultry Improvement Plan (NPIP), representing cooperating State agencies and poultry industry members, serves an essential function by acting as liaison between the poultry industry and the Department in matters pertaining to poultry health.

Topics for discussion at the upcoming meeting include:

1. National Veterinary Services Laboratories Avian Influenza Update.

2. Salmonella Update.

3. Mycoplasma Update.

4. New Diagnostic Tests Seeking NPIP Approval.

The meeting will be open to the public; however, APHIS will be unable to allow public participation in session discussions due to time constraints. Written statements may be filed with the Committee before or after the meeting. Statements filed with the Committee must include the name of the Agency contact as listed under FOR FURTHER INFORMATION CONTACT. Please refer to Docket No. APHIS-2023-0035 when submitting your statements.

Reasonable Accommodations

If needed, please request reasonable accommodations no later than June 9, 2023, by contacting the person listed under FOR FURTHER INFOMRATION CONTACT. Requests made after that date may be considered, but it may not be possible to fulfill them.

This notice of meeting is given pursuant to section 10 of the Federal Advisory Committee Act (5 U.S.C. 10).

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: May 24, 2023.
Cikena Reid,
USDA Committee Management Officer.

[FR Doc. 2023-11419 Filed 5-26-23; 8:45 am]

BILLING CODE 3410-34-P